DEPARTMENT OF THE INTERIOR

Minerals Management Service

[Docket No. MMS-2007-OMM-0072]

MMS Information Collection Activity: NEW Information Collection; Lease of Submerged Lands for Alternative Energy Activities on the OCS; Comment Request

AGENCY: Minerals Management Service (MMS), Interior.

ACTION: Notice of a new information collection (1010-NEW) and request for comments.

SUMMARY: To comply with the Paperwork Reduction Act of 1995 (PRA), MMS is inviting comments on a collection of information that we will submit to the Office of Management and Budget (OMB) for review and approval. The information collection request (ICR) concerns the paperwork requirements that address new Form MMS-0001, Lease of Submerged Lands for Alternative Energy Activities on the Outer Continental Shelf (OCS), which is printed within this Federal Register notice. This form is used to enter into a leasing agreement between MMS and a respondent to conduct data collection and/or technology testing on the OCS. The MMS is also asking for comments on the lease form.

Section 388 of the Energy Policy Act of 2005 (Pub. L. 109-58), amended section 8 of the OCS Lands Act (43 U.S.C. 1337(p)) and gave responsibility to MMS to grant a lease, easement, or right-of-way on the OCS for alternative energy-related uses not otherwise authorized under the Lands Act.

DATES: Submit written comments by February 12, 2008.

ADDRESSES: You may submit comments by either of the following methods listed below.

• Electronically: go to http://www.regulations.gov, select “Minerals Management Service” from the agency drop-down menu, then click “submit.” In the Docket ID column, select MMS-2007-OMM-0072 to submit public comments and to view any supporting and related materials available. Information on using Regulations.gov, including instructions for accessing documents, submitting comments, and viewing the docket after the close of the comment period, is available through the site's “User Tips” link. All comments submitted will be published and posted to the docket after the closing period.

• Mail or hand-carry comments to the Department of the Interior; Minerals Management Service; Attention: Cheryl Blundon; 381 Elden Street, MS-4024; Herndon, Virginia 20170-4817. Please reference “Information Collection 1010-NEW” in your comments.

FOR FURTHER INFORMATION CONTACT: Cheryl Blundon, Regulations and Standards Branch at (703) 787-1607. You may also contact Cheryl Blundon to obtain a copy, at no cost, of section 388 of the Energy Policy Act. You may contact Maureen A. Bornholdt, Program Manager, Alternative Energy Programs at 703-787-1300 for lease questions.

SUPPLEMENTARY INFORMATION: Title: Lease of Submerged Lands for Alternative Energy Activities on the OCS.

Form(s): MMS-0001.

OMB Control Number: 1010-NEW.

Abstract: Section 388 of the Energy Policy Act of 2005 (Pub. L. 109-58) amended the OCS Lands Act to add a new paragraph (p) to section 8 of the Act (43 U.S.C. 1337(p)) to allow the Department of the Interior, acting through the Minerals Management Service (MMS), to grant a lease, easement, or right-of-way on the OCS for alternative energy-related uses not otherwise authorized under the Lands Act. An early step in the process entails data collection and/or technology testing in order to assess alternative energy resources and production methodologies. This lease form and its requisite information collection are needed for MMS to authorize and convey rights under limited-term leases to conduct data collection and/or technology testing activities on specific areas of the OCS.

This information collection request (ICR) addresses the form and accompanying information, which will be used by MMS and the emerging alternative energy industry as a contract instrument to bind both parties as to their rights and responsibilities under the lease.

We will protect information from respondents considered proprietary under the Freedom of Information Act (5 U.S.C. 552) and its implementing regulations (43 CFR part 2). No items of a sensitive nature are collected. Responses are required to obtain or retain benefits.

Frequency: On occasion.

Estimated Number and Description of Respondents: Approximately 30 alternative energy respondents.

Estimated Reporting and Recordkeeping “Hour” Burden: We are requesting 7,595 hours. In calculating the burdens, we assumed that respondents perform certain requirements in the normal course of their activities. We consider these to be usual and customary and took that into account in estimating the burden.

Form MMS-0001 sections and exhibit | Reporting or recordkeeping requirement | Hour burden
MMS-0001; Section 1 | Fill out and submit form MMS-0001, Lease Agreement, for consideration; execute lease | 1.
1 | Prepare and submit initial survey activities (e.g., geotechnical, geophysical, shallow hazard) | 100.
2; 20 | Designate operator when more than one lessee; report change of address | 1.
4 | Request extension of lease term and supporting documentation | 2.
7 | Notify MMS 72 hours prior to commencement/termination of lease; notify MMS when facility is back in service after being out of service for more than 7 days | 15 mins. for each requirement × 2 = 30 mins.
8 | Submit plan/modification and supporting documentation | 100.
8(c) | Conduct periodic reviews and inspections | 2.
8(d) | Request for reconsideration of modification. (Exempt as defined in 5 CFR 1320.3(h)(9) | 0.
10 | Submit quarterly progress reports | 4.
10 | Upon request, make available all material used by lessee to interpret data | 3.
10 | Submit final progress report upon conclusion of activities or termination of lease; retain all data for 8 years from effective date | 4.
11 | Lessee and relevant third-parties agree to confidential disclosure | 1.
12 | Allow access and make records available as requested by MMS inspectors; incorporate same requirement in any contract between lessee and third parties | 2.
13 | Submit response within 30 days of violation indicating violation(s) were corrected and the correction date | 2.
14; 15 | Demonstrate financial worth/ability to carry out present and future financial obligations; submit bond/additional security information | 4.
16 | Request assignment or transfer of lease | 30 mins.
17 | Submit written relinquishment request | 1.
18 | Submit report detailing that lessee properly removed structures and restored the area | 10.
19 | Comply with and communicate nonprocurement debarment and suspension regulations | 10 mins.
1-20 | General departure and alternative compliance requests not specifically covered elsewhere in this form | 10.
Exhibit(s) | Compliance with individual stipulations on a case-by-case basis | 5.

Estimated Reporting and Recordkeeping “Non-Hour Cost” Burden: We have identified no non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

We are incorporating the potential lease form and all versions of exhibit B into this notice so respondents will be able to specifically give MMS their comments. (Please note exhibit A is not included here because it is just identification of the area of the lease provided by MMS to the respondent).

U.S. Department of the Interior

Minerals Management Service

OMB Control Number 1010-xxxx

OMB Approval Expires xx/xx/xxxx

UNITED STATES DEPARTMENT OF THE INTERIOR MINERALS MANAGEMENT SERVICE

LEASE OF SUBMERGED LANDS FOR ALTERNATIVE ENERGY ACTIVITIES ON THE OUTER CONTINENTAL SHELF

Office

Washington, DC

Lease Number

Rental Rate

This lease is made under the authority of Section 43 U.S.C. 1337, subsection 8(p) of the Outer Continental Shelf Lands Act of August 7, 1953 (43 U.S.C. 1331 et seq.), as amended, (hereinafter called the “Act”), between the United States of America, (hereinafter called “Lessor”) acting through the Minerals Management Service, its authorized officer, and _ (hereinafter, whether one or more, called “Lessee”). In consideration of the promises, terms, conditions, covenants, and stipulations contained herein or attached hereto, the parties mutually agree as follows:

Section 1. Rights of Lessee. Lessor hereby grants and leases to Lessee the exclusive right, subject to the terms and conditions of this lease, to conduct the alternative energy activities described in Exhibit “B” on the area of submerged lands of the Outer Continental Shelf (OCS) described in Exhibit “A” hereof, such area hereinafter referred to as the “leased area.” Except for the Initial Survey Activities described below, the rights granted Lessee herein are limited to the activities described in Exhibit “B” hereof and confer no preferential right to acquire, develop or operate commercially any alternative energy project on the OCS.

Upon execution of this lease and before submittal of the Project Plan required under Section 8, Lessee is authorized to conduct Initial Survey Activities including geotechnical, geophysical or shallow hazard surveys as Lessee deems necessary to identify the appropriate location on the leased area for placement of any facilities or other structures. The results of such Initial Survey Activities shall be provided to Lessor.

Section 2. Designation of Operator. When there is more than one Lessee, Lessees must designate an Operator. The designated Operator will have authority to act on behalf of all Lessees and to fulfill all of Lessees' obligations under this lease. Lessor must approve the designated Operator before the designated Operator may act on the Lessees' behalf.

Section 3. Reservations to Lessor. All rights in the leased area not expressly granted to Lessee by the Act or this lease are hereby reserved to Lessor. Lessor reserves the right to authorize other uses on the leased area that will not unreasonably interfere with activities authorized under this lease.

Section 4. Effective Date and Lease Term. This lease shall be effective on the date that it is signed by both parties (hereinafter “effective date”). This lease shall expire five years from the effective date unless the Lessor, acting at its sole discretion upon the written request of Lessee, extends the term of this lease. Any request for an extension of the lease term shall be submitted to Lessor by Lessee not less than 30 days but not more than 90 days prior to the expiration of the lease. The request for extension of the lease term shall demonstrate to Lessor's satisfaction that Lessee reasonably needs more time to conduct the alternative energy activities described in Exhibit “B.”

Section 5. Statutes and Regulations. This lease is issued subject to the Act, all applicable regulations, orders, guidelines, and directives issued pursuant to the Act.

Section 6. Rentals. Lessee shall pay Lessor on or before the first day of each lease year a rental as shown on the face hereof.

Section 7. Notice of Commencement or Termination of Activities. Lessee shall notify Lessor at least 72 hours prior to commencing installation of facilities. Lessee shall notify Lessor any time a facility is out of service for a period greater than 7 days and when the facility is returned to service.

Section 8. Project Plan. All activities in the leased area, except the Initial Survey Activities described in Section 1, shall be conducted in accordance with a Project Plan (hereinafter called the “Plan”) prepared by Lessee and submitted to Lessor.

(a) Except for the Initial Survey Activities described in Section 1, Lessee may not conduct activities under this lease until Lessor has acknowledged receipt of the Plan and has raised no objections within 60 calendar days of receipt, or Lessor notifies Lessee that subsequent modifications to the plan have satisfied Lessor's initial objections.

(b) The Plan shall include the following information in form and content satisfactory to Lessor:

(1) A description of the proposed activities, including the technology intended to be utilized in conducting activities authorized by this lease and all surveys Lessee intends to conduct;

(2) The surface location and water depth for all proposed facilities to be constructed in the leased area;

(3) General structural and project installation information;

(4) A description of the safety, prevention and environmental protection features or measures that Lessee will use;

(5) A brief description of how facilities on the leased area will be removed and the leased area restored as required by Section 18 below; and

(6) Any other information reasonably requested by Lessor to ensure Lessee's activities on the OCS are conducted in a safe and environmentally sound manner.

(c) Lessee agrees to conduct periodic reviews and inspections of activities under the lease to ensure compliance with the provisions of the Plan and the terms and conditions of this lease.

(d) Any proposed modifications to the Plan shall be submitted to Lessor and Lessor shall have 30 calendar days to raise any objection to the proposed modification prior to implementation.

Section 9. Compliance. Lessee agrees to conduct all activities in the leased area in accordance with all applicable laws, rules and regulations.

Lessee further agrees that no activities authorized by this lease will be carried out in a manner that: (1) Could interfere with or endanger activities or operations under any lease issued or maintained pursuant to the Act or under any other license or approval issued by any Federal agency in accordance with applicable law prior to the issuance of this lease; (2) could cause any undue harm or damage to marine life; (3) could create hazardous or unsafe conditions; (4) could unreasonably interfere with or harm other uses of the leased area; or (5) could adversely affect sites, structures, or objects of historical or archaeological significance without notice to and direction from the Lessee on how to proceed.

Section 10. Progress Reports. Lessee shall submit to Lessor a quarterly progress report that shall include, at a minimum, the following information:

(a) A brief narrative of the overall progress since the beginning of the lease term or since the last progress report; and

(b) One copy of any and all studies, surveys, inspections or test reports compiled or completed during the given period.

Lessee shall also make available to Lessor upon request all raw data, analyses and computational models used by Lessee to interpret such data. At the conclusion of the activities covered by this lease, or at the termination of this lease, whichever comes first, Lessee shall submit a final progress report. The final progress report shall include, at a minimum, a comprehensive narrative of Lessee's activities and results from testing, surveys and inspections. Lessee shall retain copies of all such progress and other reports for the duration of the lease term and three years thereafter.

Section 11. Confidentiality. To the extent permitted by applicable law, in particular the Freedom of Information Act and implementing regulations, Lessor shall keep confidential all information, including but not limited to studies, surveys, or test reports, received from Lessee for a period of no less than 60 months from receipt, unless disclosure is agreed to by the lessee(s) and all relevant third parties. The Lessor will follow the procedures set forth in 43 CFR § 2.23 with respect to objections to requests for commercial or financial information. Lessor shall be entitled to retain all reports and similar work product delivered to it by Lessee.

Section 12. Inspections. Lessee shall: (1) Allow prompt access to any authorized Federal inspector to the site of any activities conducted pursuant to this lease; and (2) provide any documents and records that are pertinent to occupational or public health, safety, or environmental protection that may be requested by MMS or other authorized Federal inspectors. Lessee shall incorporate these requirements in any contract between Lessee and third parties conducting activities on the leased area.

Section 13. Violations, Suspensions and Cancellations. If Lessee violates any provision of this lease, Lessor may, after giving written notice ordering lessee to cease and remedy all such violations, suspend any further activities of Lessee under this lease. Lessee may continue activities that are necessary to remedy any violation. If Lessee fails to remedy all violations within 30 days after receipt of a suspension notice, Lessor may, by written notice, cancel this lease and take appropriate action to recover all costs incurred by Lessor by reason of such violation(s). Cancellation of this lease due to any violation of the provisions of this lease by Lessee shall not entitle Lessee to compensation. Lessor, by written notice, may also suspend or cancel this lease when it is necessary (1) to comply with judicial decrees; (2) to respond to a serious threat of imminent harm or injury to human life, or natural, historical or archaeological resources; and (3) to respond to national security or defense requirements.

Section 14. Indemnification. Lessee shall indemnify Lessor for, and hold it harmless from, any claim, including claims for loss or damages suffered or costs or expenses incurred by Lessor arising out of any activities conducted by Lessee or its employees, contractors, subcontractors, or their employees, under this lease whenever such damage, cost or expense results from any breach of this lease by Lessee or its employees, contractors, subcontractors, or their employees, or from the wrongful or negligent act or omission of Lessee or its employees, or Lessee's contractors, subcontractors, or their employees, which causes death, personal injury or damage to property. Lessee shall pay Lessor for such damage, cost, or expense attributable to its breach or negligence or that of its employees, contractors, subcontractors, or their employees within 90 days after a written demand therefore by Lessor.

Section 15. Security. Lessee shall maintain at all times a surety bond or other form of security approved by Lessor in the amount of $300,000 (“base bond”) and shall furnish such additional security (“supplemental bond”) as may be required by Lessor if, at any time during the term of this lease, Lessor deems such additional security to be necessary.

Section 16. Assignment or Transfer of Lease. This lease may not be assigned or transferred in whole or in part without prior written approval of Lessor. Lessor reserves the right, in its sole discretion, to deny approval of any transfer or assignment.

Section 17. Surrender of Lease. Lessee may surrender this lease by filing with Lessor a written relinquishment that shall be effective on the date of filing, subject to the responsibility to remove property and restore the leased area pursuant to section 18.

Section 18. Removal of Property and Restoration of the Leased Area on Termination of Lease. Within a period of 1 year after cancellation, expiration, relinquishment or other termination of this lease, Lessee shall remove all devices, works and structures from the leased area and restore the leased area to its original condition before issuance of the lease in accordance with the conditions in Exhibit “B.” Within 90 days following the removal of property and restoration of the leased area, Lessee shall provide Lessor with a written report summarizing its facility removal and site restoration activities.

Section 19. Debarment Compliance. Lessee shall comply with the Department of the Interior's nonprocurement debarment and suspension regulations as required by 43 CFR part 42 and/or 2 CFR part 1400 and shall communicate the requirement to comply with these regulations to persons with whom it does business related to this lease by including this term in its contracts and transactions.

Section 20. Notices. Except for notices required under Section 7, which Lessee may provide orally, all notices or reports provided under the terms of this lease shall be in writing. Notices shall be delivered to the Lease Representative electronically, by hand, by facsimile, or by United States first class mail, adequate postage prepaid, to the specific persons listed below. Any party's address may be changed from time-to-time by such party giving notice as provided above. Until notice of any change of address is delivered as provided above, the last recorded address of either party shall be deemed the address for all notices required under this lease. For all operational matters, notices shall be provided to the party's Operations Representative as well as the Lease Representative.

(a) Lessor's Contact Information

Lease Representative | Operations
Representative:
Name:
Title:
Address:
Address:
Phone:
Fax:
E-mail:

(b) Lessee's Contact Information

Lease Representative | Operations
Representative:
Name:
Title:
Address:
Address:
Phone:
Fax:
E-mail:

THE UNITED STATES OF AMERICA, Lessor

(Lessee)

(Signature of Authorized Officer)

(Signature of Authorized Officer)

(Name of Signatory)

(Name of Signatory)

(Title)

(Title)

(Date)

(Date)

(Address of Lessee)

If this lease is executed by a corporation, it must bear the corporate seal.

PAPERWORK REDUCTION ACT OF 1995 (PRA) STATEMENT: The PRA (44 U.S.C. 3501 et seq.) requires us to inform you that we collect this information as part of authorizing respondents to conduct data collection and/or technology testing on the OCS. The MMS uses the information to evaluate and approve or disapprove the adequacy of the equipment and/or procedures to safely perform the proposed activities in an environmentally responsible manner. Responses are required for benefit. Proprietary data are covered under the Freedom of Information Act (5 U.S.C. 552) and its implementing regulations (43 CFR part 2). An agency may not conduct or sponsor, and a person is not required to respond to, a collection of information unless it displays a currently valid OMB Control Number. Public reporting burden for this form is estimated at 1 hour per response. This includes the time for completing and reviewing the form. Direct comments regarding the burden estimate or any other aspect of this form to the Information Collection Clearance Officer, Mail Stop 4230, Minerals Management Service, 1849 C Street, NW., Washington, DC 20240.

MMS Form MMS-0001 (January 2008)

EXHIBIT “B”

TECHNOLOGY TESTING AND DEMONSTRATION ACTIVITIES WAVE AND/OR CURRENT RESOURCES

Lease Number

U.S. DEPARTMENT OF THE INTERIOR MINERALS MANAGEMENT SERVICE

LEASE OF SUBMERGED LANDS FOR ALTERNATIVE ENERGY ACTIVITIES ON THE OUTER CONTINENTAL SHELF

Lessor hereby grants to Lessee the right to conduct the following alternative energy activities for wave and/or current resources on the leased area. “Wave and/or current resources” means the ocean waves and/or currents moving across the leased area. These rights include:

(a) Constructing, installing, using, upgrading, maintaining, and removing buoys, turbines or other devices, to study wave and/or current flow, motion, frequency, speed, rise and fall, or direction, and other data in order to determine the potential to harness the wave and/or current resources on the leased area for the production of energy;

(b) Accessing the leased area for permitting, site analysis, extraction of soil and water samples, and other geotechnical analyses and tests necessary to determine the feasibility of converting the wave and/or current resources to electricity;

(c) Employing and testing technology and/or demonstrating Lessee's ability to convert wave and/or current resources to electricity and to collect and transmit that electricity to market;

(d) Installing and testing electrical generators, transformers and substations, electrical distribution and transmission lines, interconnection facilities and related equipment; and

(e) Any other activities necessary to establish the nature and extent of the wave and/or current resources on the leased area and to establish whether the leased area has sufficient wave and/or current resources for the commercial production and distribution of electricity.

Lessee's rights to conduct the aforesaid alternative energy activities are subject to the following stipulations. Stipulation 1—

Note: Stipulations will be developed on a case-by-case basis depending upon location, technology utilized and other relevant factors, including site-specific findings from project-specific environmental analyses. Stipulations will also be developed taking into account environmental protections derived from the Alternative Energy Alternate Use (AEAU) programmatic Environmental Impact Statement (EIS).

EXHIBIT “B”

DATA COLLECTION ACTIVITIES WAVE AND/OR CURRENT RESOURCES

Lease Number

U.S. DEPARTMENT OF THE INTERIOR MINERALS MANAGEMENT SERVICE

LEASE OF SUBMERGED LANDS FOR ALTERNATIVE ENERGY ACTIVITIES ON THE OUTER CONTINENTAL SHELF

Lessor hereby grants to Lessee the right to conduct the following alternative energy activities for wave and/or current resources on the leased area. “Wave and/or current resources” means the ocean waves and/or currents moving across the leased area. These rights include:

(a) Constructing, installing, using, upgrading, maintaining, and removing buoys, turbines or other devices, to study wave and/or current flow, motion, frequency, speed, rise and fall, or direction, and other data in order to determine the potential to harness the wave and/or current resources on the leased area for the production of energy;

(b) Accessing the leased area for permitting, site analysis, extraction of soil and water samples, and other geotechnical analyses and tests necessary to determine the feasibility of converting the wave and/or current resources to electricity; and

(c) Any other activities necessary to establish the nature and extent of the wave and/or current resources on the leased area and to establish whether the leased area has sufficient wave and/or current resources for the commercial production and distribution of electricity.

Lessee's rights to conduct the aforesaid alternative energy activities are subject to the following stipulations.

Stipulation 1—

Note: Stipulations will be developed on a case-by-case basis depending upon location, technology utilized and other relevant factors, including site-specific findings from project-specific environmental analyses. Stipulations will also be developed taking into account environmental protections derived from the Alternative Energy Alternate Use (AEAU) programmatic Environmental Impact Statement (EIS).

EXHIBIT “B”

DATA COLLECTION ACTIVITIES WIND RESOURCES

Lease Number

U.S. DEPARTMENT OF THE INTERIOR

MINERALS MANAGEMENT SERVICE

LEASE OF SUBMERGED LANDS FOR ALTERNATIVE ENERGY ACTIVITIES ON THE OUTER CONTINENTAL SHELF

Lessor hereby grants to Lessee the right to conduct the following alternative energy data collection activities for wind resources on the leased area. “Wind resources” means the wind moving across the leased area. These rights include:

(a) Constructing, installing, using, upgrading, maintaining, and removing meteorological towers to study wind speed, wind direction, and other meteorological data in order to determine the potential of the wind resources on the leased area for the production of energy;

(b) Accessing the leased area for permitting, site analysis, extraction of soil and water samples, and other geotechnical analyses and tests necessary to determine the feasibility of converting the wind resources to electricity; and

(c) Any other activities necessary to establish the nature and extent of the wind resources on the leased area and to establish whether the leased area has sufficient wind resources for the commercial production and distribution of electricity.

Lessee's rights to conduct the aforesaid alternative energy activities are subject to the following stipulations:

Stipulation 1—

Note: Stipulations will be developed on a case-by-case basis depending upon location, technology utilized and other relevant factors, including site-specific findings from project-specific environmental analyses. Stipulations will also be developed taking into account environmental protections derived from the Alternative Energy Alternate Use (AEAU) programmatic Environmental Impact Statement (EIS).

MMS Information Collection Clearance Officer: Arlene Bajusz (202) 208-7744.

Dated: December 7, 2007.
Randall B. Luthi,
Director, Minerals Management Service.

[FR Doc. E7-24252 Filed 12-13-07; 8:45 am]

BILLING CODE 4310-MR-P